DEPARTMENT OF LABOR

Office of the Secretary

[Secretary's Order 5-2001]

Establishment of the Management Review Board

August 8, 2001.

1. Purpose

This Order establishes the Management Review Board, which shall serve as a Department-wide forum for systematically furthering the Secretary's management objectives for the Department of Labor (DOL).

2. Authority and Directives Affected

This Order is issued pursuant to 5 U.S.C. 301; the Government Performance and Results Act of 1993 (P.L. 103-62), 31 U.S.C. 1115, et seq.; the Government Management Reform Act of 1994 (P.L. 103-356), 31 U.S.C. 3515 et seq.; the Clinger-Cohen Act (P.L. 104-106), 40 U.S.C. 1422-23, et seq. and 44 U.S.C. 3506 et seq.; the Federal Financial Management Improvement Act of 1996, (P.L. 104-208), 31 U.S.C. 3512 note; the Federal Managers' Financial Integrity Act of 1982 (P.L. 97-255 ), 31 U.S.C. 3512 et seq.; and the Government Paperwork Elimination Act (P.L. 105-277), 44 U.S.C. 3504 note. References to the Management Review Council in Secretary's Order 1-2000 are hereby amended to refer to the Management Review Board, and Section 8 of that Order is superseded to the extent that it is inconsistent with this Order.

3. Background

The purpose of this Order is to maximize the quality of Departmental resource and management decisions through a coordinated, Department-wide approach having a primary focus on the priorities of the Secretary. The Department's planning, budgeting, and program review processes serve as the principal tools for establishing the foundation for identifying and achieving goals and objectives of the Secretary of Labor. These processes will identify the resources required to ensure that Departmental programs are conducted efficiently, effectively, and consistent with all applicable legal requirements. The Management Review Board (MRB) will serve as the principal forum for coordination, executive oversight, and integration of agency management processes, offering an essential Departmental perspective in assessing Agency program plans, budgets, human resource management, funding requirements, and program results.

4. Delegation of Authority and Assignment of Responsibility

a. The Management Review Board is delegated authority and assigned responsibility for defining and addressing DOL management initiatives and major cross-cutting management issues; for providing a forum for eliciting the views and perspectives of affected DOL agencies and offices; and for ascertaining a coordinated Departmental perspective and recommended course(s) of action, as appropriate, including:

(1) Assessing annual program funding requests and related budget issues with Department-wide implications and, as appropriate, offering recommendations to the Secretary of Labor and/or Deputy Secretary for approval;

(2) Providing Departmental oversight and coordination for the continuing implementation of the Government Performance and Results Act, the Information Technology Management Reform Act (ITMRA), except as provided by the ITMRA, as reflected by Secretary's Order 1-2000, Government Paperwork Elimination Act, Federal Financial Management Improvement Act and other government-wide and agency-specific management reforms;

(3) Reviewing the draft Department's Strategic Plan, Annual Performance Plan, and Annual Performance Report and, as appropriate, offering recommendations to the Deputy Secretary or Secretary of Labor for approval;

(4) Monitoring Agency program results in consideration of the goals and objectives articulated for the fiscal year in the Departmental Annual Performance Plan;

(5) Directing, as appropriate, periodic reviews of Agency performance;

(6) Assessing and offering recommendations to the Secretary on human resources management, and other program support issues, programs, and initiatives that cross the lines of Agency authority; and

(7) Except as provided in Secretary's Order 1-2000, advising and assisting on information technology policies and related issues.

b. The Assistant Secretary for Administration and Management is delegated authority and assigned responsibility for:

(1) Receiving reports from standing or ad-hoc workgroups, formed to implement agreed-upon activities and projects;

(2) Maintaining the MRB agenda and providing staff support in the areas of budget and human resources; and

(3) Promoting participation by DOL agencies with the MRB.

c. The Chief Information Officer is delegated authority and assigned responsibility for providing Departmental Information Technology leadership, policy guidance, and assistance and all other matters within the scope of Secretary's Order 1-2000.

d. The Chief Financial Officer is delegated authority and assigned responsibility for providing leadership, policy guidance, and assistance in the areas of budget execution, managerial cost accounting, and financial reporting, and all other matters within the scope of Secretary's Order 1-92.

e. The Solicitor of Labor is delegated authority and assigned responsibility for providing legal advice and counsel to the Secretary and Deputy Secretary, the MRB and other DOL agencies on all matters arising in the administration of this Order.

f. Agency Heads are responsible for:

(1) Providing to the MRB the perspective of their respective agencies on matters before the MRB; and

(2) Consulting with the MRB on policies and activities which relate to the purposes or responsibilities of the MRB.

g. MRB Members are responsible for:

(1) Ensuring their appropriate involvement with the duties delegated to the MRB; and

(2) Assisting in preparations of draft documents for MRB discussions, recommendations, or decisions.

h. The Technical Review Board is delegated authority and assigned responsibility for serving as the Department's first tier Investment Review Board on Information Technology (IT) investments to identify and recommend to the MRB IT capital planning process improvements, agency and Departmental IT investment portfolios, and address common IT issues and proposed resolution of those issues.

i. The Executive Secretary is delegated authority and assigned responsibility for recording official decisions and assignments made at MRB proceedings and will participate in follow-up activities, as required.

5. Composition

a. Chairperson. The MRB shall be chaired by the Assistant Secretary for Administration and Management. In the absence of the Assistant Secretary for Administration and Management, the MRB shall be chaired by a designee of the Chair.

b. Membership. The membership of the MRB will be determined periodically by the Secretary.

c. Process.

(1) The MRB shall meet at least monthly.

(2) All meetings shall be convened by the Chair with sufficient advance notice to promote member participation.

(3) The MRB shall establish such standing or special ad-hoc workgroups, as appropriate, to implement agreed-upon activities and projects. Chairs of these workgroups shall report to the Chair of the MRB.

(4) Where MRB recommendations are not unanimously adopted, dissenting recommendations shall be submitted to the Deputy Secretary or Secretary with the MRB recommendation, at the request of any dissenting members.

6. Reservation of Authority and Responsibility

a. The submission of reports and recommendations to the President and the Congress concerning the administration of the statutory provisions and Executive Orders affecting the Department of Labor is reserved to the Secretary.

b. This Secretary's Order does not affect the authorities or responsibilities of the Office of Inspector General under the Inspector General Act of 1978, as amended, or under Secretary's Order 2-90 (January 31, 1990).

c. Except as provided above in Section 2, all other Secretary's Orders remain in full force and effect.

7. Effective Date. This Order is effective immediately.

Elaine L. Chao,
Secretary of Labor.

[FR Doc. 01-20465 Filed 8-14-01; 8:45 am]

BILLING CODE 4510-23-P